DEPARTMENT OF THE INTERIOR

Geological Survey

Technology Transfer Act of 1986

AGENCY: Geological Survey, Department of Interior.

ACTION: Notice of proposed Cooperative Research and Development Agreement (CRADA) negotiations.

SUMMARY: The United States Geological Survey (USGS) is planning to enter into a Cooperative Research and Development Agreement (CRADA) with Maps a la carte, Inc., of North Chelmsford, Massachusetts. The purpose of the CRADA is to develop and document Open Source software tools for use by potential The National Map partners when serving digital geographic data and metadata in The National Map. Any other organization interested in pursuing a partnership for similar kinds of activities should contact the USGS.

ADDRESSES: Inquiries may be addressed to the Branch of Business Development, U.S. Geological Survey, 500 National Center, 12201 Sunrise Valley Drive, Reston, Virginia 20192; Telephone (703) 648-4621, facsimile (703) 648-4706; Internet bduff@usgs.gov.

FOR FURTHER INFORMATION CONTACT: Beth L. Duff, address above.

SUPPLEMENTARY INFORMATION: This notice is to meet the USGS requirement stipulated in the Survey Manual.

Dated: June 18, 2003.
Robert A. Lidwin,
Geography, Chief of Staff.

[FR Doc. 03-17964 Filed 7-15-03; 8:45 am]

BILLING CODE 4310-Y7-M